DEPARTMENT OF ENERGY

Federal Energy Regulatory Commission

[Project No. 10854-080-MI]

Upper Peninsula Power Company; Notice of Availability of Environmental Assessment

July 2, 2008.

In accordance with the National Environmental Policy Act of 1969 and the Federal Energy Regulatory Commission's regulations, 18 CFR part 380 (Order No. 486, 52 FR 47879), the Office of Energy Projects has reviewed Upper Peninsula Power Company's proposed shoreline management plan for the Cataract Hydroelectric Project, located on the Middle Branch of the Escanaba River in Marquette County, Michigan, and has prepared an Environmental Assessment (EA).

A copy of the EA is on file with the Commission and is available for public inspection. The EA may also be viewed on the Commission's Web site at http://www.ferc.gov using the “eLibrary” link. Enter the docket number (P-10854) excluding the last three digits in the docket number field to access the document. For assistance, contact FERC Online Support at FERCOnlineSupport@ferc.gov or toll-free at 1-866-208-3676, or for TTY, (202) 502-8659.

Any comments on the EA should be filed by August 1, 2008, and should be addressed to the Secretary, Federal Energy Regulatory Commission, 888 First Street, NE., Room 1-A, Washington, DC 20426. Please reference the project name and project number (P-10854) on all comments. Comments may be filed electronically via Internet in lieu of paper. The Commission strongly encourages electronic filings. See 18 CFR 385.2001(a)(1)(iii) and the instructions on the Commission's Web site under the “eFiling” link. For further information, contact Jon Cofrancesco at (202) 502-8951.

Kimberly D. Bose,
Secretary.

[FR Doc. E8-15700 Filed 7-9-08; 8:45 am]

BILLING CODE 6717-01-P